DEPARTMENT OF LABOR

Employment and Training Administration

[TA-W-52,629]

General Binding Corporation, Boonville, MS; Notice of Termination of Investigation

Pursuant to section 221 of the Trade Act of 1974, as amended, an investigation was initiated on August 20, 2003, in response to a petition filed by a company official on behalf of workers at General Binding Corporation, Boonville, Mississippi.

The petitioner has requested that the petition be withdrawn. Consequently, further investigation would serve no purpose, and the investigation has been terminated.

Signed at Washington, DC this 15th day of September, 2003.
Linda G. Poole,
Certifying Officer, Division of Trade Adjustment Assistance.

[FR Doc. 03-26484 Filed 10-20-03; 8:45 am]

BILLING CODE 4510-30-P